DEPARTMENT OF TRANSPORTATION

Federal Aviation Administration

Sixteenth Meeting: RTCA Special Committee 207/Airport Security Access Control Systems

AGENCY: Federal Aviation Administration (FAA), DOT.

ACTION: Notice of RTCA Special Committee 207 Meeting, Airport Security Access Control Systems.

SUMMARY: The FAA is issuing this notice to advise the public of a meeting of RTCA Special Committee 207, Airport Security Access Control Systems.

DATES: This meeting will be held January 16, 2007 from 9:30 a.m.-4 p.m.

ADDRESSES: This meeting will be held at RTCA, Inc., Conference Rooms, 1828 L Street, NW., Suite 805, Washington, DC 20036.

FOR FURTHER INFORMATION CONTACT: (1) RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., appendix 2), notice is hereby given for a Special Committee 207 meeting. The agenda will include:

January 16

• Opening Plenary Session (Welcome, Introductions, and Administrative Remarks).

• Review of Meeting Summary.

• Review of Workgroup Leaders Meetings.

• Workgroup Reports

• Workgroup 2: Introduction.

• Workgroup 3: Local Identity Management System.

• Workgroup 4: Physical Access Control.

• Workgroup 5: Intrusion Detection Systems.

• Workgroup 6: Video Systems.

• Workgroup 7: Security Operating Center.

• Workgroup 8: Communications Infrastructure.

• Workgroup 9: General Considerations.

• Workgroup 10: Appendices.

• Closing Plenary Session (Other Business, Establish Agenda, Date and Place of Following Meetings.)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on December 27, 2007.
Franccisco Estrada C.,
RTCA Advisory Committee.

[FR Doc. 08-165 Filed 1-17-08; 8:45 am]

BILLING CODE 4910-13-M